FEDERAL COMMUNICATIONS COMMISSION

47 CFR Part 1

[WC Docket No. 17-84; FCC 23-109; FR ID 232182]

Accelerating Wireline Broadband Deployment by Removing Barriers to Infrastructure Investment

AGENCY: Federal Communications Commission.

ACTION: Final rule; announcement of effective date.

SUMMARY: In this document, the Wireline Competition Bureau (Bureau) announces that the Office of Management and Budget (OMB) has approved, for a period of three years, the information collection associated with the Commission's revised pole attachment rules. This document is consistent with Accelerating Wireline Broadband Deployment by Removing Barriers to Infrastructure Investment, Fourth Report and Order, Declaratory Ruling, FCC 23-109, which stated that the Bureau would publish a document in the Federal Register announcing the effective date of the revised rules.

DATES: Amendatory instruction 2 (adding § 1.1411(c)(4)) and amendatory instruction 4 (adding § 1.1415), published at 89 FR 2151, January 12, 2024, are effective on July 25, 2024

FOR FURTHER INFORMATION CONTACT: Michael Ray, Attorney Advisor, Wireline Competition Bureau, at (202) 418-0357, or by email at Michael.Ray@fcc.gov. For additional information concerning the Paperwork Reduction Act information collection requirements, contact Nicole Ongele at (202) 418-2991 or nicole.ongele@fcc.gov.

SUPPLEMENTARY INFORMATION: On December 13, 2023, the Commission adopted Accelerating Wireline Broadband Deployment by Removing Barriers to Infrastructure Investment, Fourth Report and Order, Declaratory Ruling, FCC 23-109, published at 89 FR 2151, January 12, 2024. In the Fourth Report and Order, the Commission adopted a revision to 47 CFR 1.1411 that provides communications providers with information about the status of the utility poles they plan to use as part of their broadband buildouts. The Commission also added new 47 CFR 1.1415 that creates a new expedited process for the Commission's review and assessment of pole attachment disputes that impede or delay broadband deployment and established FCC Form 5653—Request for RBAT Review and Assessment—to initiate the expedited process. The Commission stated that these rule changes may contain new or modified information collection requirements and would not become effective until OMB completes its review of any information collection requirements that the Bureau determined is required under the Paperwork Reduction Act. The Commission also directed the Bureau to announce the effective date for the revision to § 1.1411 and new § 1.1415 by subsequent public release.

On July 2, 2024, OMB approved, for a period of three years, the information collection requirements related to the pole attachment rules contained in the Fourth Report and Order. The OMB Control Number is 3060-1151. The Bureau publishes this document as an announcement of the effective date of the pole attachment rules adopted in the Fourth Report and Order, as well as FCC Form 5653. If you have any comments on the burden estimates listed below, or how the Commission can improve the collections and reduce any burdens caused thereby, please contact Nicole Ongele, Federal Communications Commission, 45 L Street NE, Washington, DC 20554. Please include the OMB Control Number 3060-1151 in your correspondence. The Commission also will accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Bureau is notifying the public that it received final OMB approval on July 2, 2024, for the information collection requirements contained in the changes to the Commission's pole attachment rules in 47 CFR 1.1411 and 1.1415, as well as FCC Form 5653.

Under 5 CFR part 1320, an agency may not conduct or sponsor a collection of information unless it displays a current, valid OMB Control Number.

No person shall be subject to any penalty for failing to comply with a collection of information subject to the Paperwork Reduction Act that does not display a current, valid OMB Control Number.

The foregoing notification is required by the Paperwork Reduction Act of 1995, Public Law 104-13, October 1, 1995, and 44 U.S.C. 3507.

The total annual reporting burdens and costs for the affected respondents are as follows:

OMB Control Number: 3060-1151.

OMB Approval Date: July 2, 2024.

OMB Expiration Date: July 31, 2027.

Title: Sections 1.1411, 1.1412, 1.1415, and 1.1416 Pole Attachment Access and Dispute Resolution Requirements.

Form Number: FCC Form 5653.

Type of Review: Revision of a currently-approved collection.

Respondents: Business or other for-profit entities.

Number of Respondents and Responses: 1,380 respondents; 165,009 responses.

Estimated Time per Response: 0.25-5 hours.

Frequency of Response: On occasion reporting requirement and third-party disclosure requirements.

Obligation to Respond: Mandatory or required to obtain benefits. Statutory authority for this information collection is contained in 47 U.S.C. 224.

Total Annual Burden: 120,980 hours.

Total Annual Cost: $1,800.

Needs and Uses: The Commission received OMB approval for a revision to an existing information collection, OMB Collection No. 3060-1151. In Accelerating Wireline Broadband Deployment by Removing Barriers to Infrastructure Investment, Fourth Report and Order, Declaratory Ruling, FCC 23-109, published at 89 FR 2151, January 12, 2024, the Commission adopted rules that implement the pole attachment requirements in section 224 of the Communications Act of 1934, as amended. The Order substantially revised 47 CFR 1.1411, redesignated existing 47 CFR 1.1415 as 47 CFR 1.1416, and added a new 47 CFR 1.1415.

Section 1.1411. In the Order, the Commission adopted regulations requiring utilities to share information about their poles with prospective telecommunications and cable attachers. The Commission created this requirement to help improve the attachment process and potentially reduce disputes, thus facilitating broadband deployment. Specifically, the Order requires utilities to provide to potential attachers, upon request, the information contained in their most recent cyclical pole inspection reports, or any intervening, periodic reports created before the next cyclical inspection, for the poles covered by a submitted attachment application, including whether any of the affected poles have been “red tagged” by the utility for replacement and the scheduled replacement date or timeframe (if any). For the purposes of this new transparency requirement, a cyclical pole inspection report is any report that a utility creates in the normal course of its business that sets forth the results of the routine inspection of its poles during the utility's normal pole inspection cycle, while a periodic pole inspection report is any report that a utility creates in the normal course of its business that sets forth the results of the inspection of any of its poles outside the utility's normal pole inspection cycle. When asking for information about the status of a utility's poles for a planned buildout, the attacher must submit its information request no earlier than contemporaneously with an attachment application. The utility will have ten business days to respond to the request. Where an attacher amends its application based on the information it receives from the utility, the utility will have the option to restart the 45-day period for responding to the application on the merits and conducting the required make-ready survey. Regardless of whether the utility elects to restart the 45-day response period, any additional survey costs necessitated by the amended application, such as a second survey after a survey for the original application has been completed, will be borne by the new attacher consistent with the new attacher's obligation to pay for make-ready costs associated with its application. The Commission also required utilities to retain copies, in whatever form they were created, of any such cyclical or periodic pole inspection reports they conduct in the normal course of business, until such time as the utility completes a superseding cyclical pole inspection report covering the poles included in the attachment application. The Commission reiterated that utilities are required to provide only the information they already possess and track in the normal course of conducting pole inspections at the time of the attacher's request for data. The Commission did not require utilities to collect or create new information for the purpose of responding to such requests or to provide all information they may possess on the affected poles outside their pole inspection reports. The Commission found that adopting this limited requirement achieves a balance between a potential attacher's need for more information about the poles that it plans to use as part of a broadband buildout and the utility's interest in minimizing the burden of mandatory disclosures.

Section 1.1415. To expedite the resolution of pole attachment disputes that impede or delay active broadband deployment projects, the Commission established the Rapid Broadband Assessment Team (RBAT), which will consist of one or more staff from the Commission's Enforcement Bureau and one or more staff from the Commission's Wireline Competition Bureau. The Commission created the RBAT in an effort to make the Commission's pole attachment dispute resolution process more responsive and adaptable with the goal of facilitating broadband deployment. The Order charged the RBAT with expediting the resolution of such disputes by swiftly engaging key stakeholders, gathering relevant information, distilling issues in dispute, and recommending to the parties, where appropriate, an abbreviated mediation process, placement of a complaint (or portion of a complaint) on the Commission's Accelerated Docket based on consideration of specified criteria, and/or any other action that the RBAT determines will help the parties resolve their dispute. To request RBAT review and assessment of a dispute that a party to the dispute contends is impeding or delaying deployment of broadband facilities, the party must first notify the Chief of the Enforcement Bureau's Market Disputes Resolution Division (MDRD) of the request by phone and in writing. The MDRD Chief will direct the party to FCC Form 5653—Request for RBAT Review and Assessment—on the MDRD website and to instructions for completing and electronically transmitting the form to the RBAT. The form will elicit information relevant to the scope and nature of the dispute, and to whether the dispute is appropriate for expedited mediation and/or placement on the Accelerated Docket. The information submitted by a party on the FCC Form 5653 will assist the RBAT in efficiently reviewing and assessing the party's dispute and in providing guidance on the most effective means of resolving it. The RBAT also may request that one or both parties provide the RBAT with documentation or other information relevant to the dispute. After reviewing the parties' submissions, the RBAT will provide guidance and advice to the parties on the most effective means of resolving their dispute, including staff-supervised mediation, use of the Accelerated Docket, and/or other action. Should the RBAT recommend staff-supervised mediation, it shall be conducted pursuant to 47 CFR 1.737, the requirements of which may be modified or waived as appropriate in this context or as needed in light of the facts or circumstances of a particular case. In the event that the parties are unable to settle their dispute, and a prospective complainant seeks placement of its complaint on the Accelerated Docket, the RBAT will decide whether the complaint or a portion of the complaint is suitable for inclusion on the Accelerated Docket based on a totality of the factors listed in 47 CFR 1.1415(e).

List of Subjects in 47 CFR Part 1

Telecommunications, cable, utility, procedures, filing requirements.

Federal Communications Commission
Katura Jackson,
Federal Register Liaison.

[FR Doc. 2024-16209 Filed 7-24-24; 8:45 am]

BILLING CODE 6712-01-P